DEPARTMENT OF ENERGY

Federal Energy Regulatory Commission

Combined Notice of Filings #1

May 24, 2006.

Take notice that the Commission received the following electric rate filings.

Docket Numbers: ER99-2251-005; ER99-2252-006; ER98-2491-011; ER97-705-016; ER02-2080-005; ER02-2546-006; ER99-3248-008; ER99-1213-006; ER01-1526-006.

Applicants: Consolidated Edison Co. of New York, Inc; Orange and Rockland Utilities, Inc.; Consolidated Edison Energy, Inc.; Ocean Peaking Power, L.L.C.; CED Rock Springs, Inc.; Consolidated Edison Energy of Massachusetts, Inc.; Lakewood Cogeneration, L.P.; Newington Energy, L.L.C.

Description: The Con Edison Companies submits a non-material change in status, in compliance with FERC's Order 652.

Filed Date: May 12, 2006.

Accession Number: 20060522-0028.

Comment Date: 5 p.m. Eastern Time on Friday, June 2, 2006.

Docket Numbers: ER02-2074-002; ER00-1372-003.

Applicants: Alcoa Power Marketing, Inc.; Alcoa Power Generating Inc.

Description: Alcoa Power Generating, Inc & Alcoa Power Marketing, Inc submit an amendment to the affidavit in their April 13, 2006 filing.

Filed Date: May 17, 2006.

Accession Number: 20060519-0007

Comment Date: 5 p.m. Eastern Time on Wednesday, June 7, 2006.

Docket Numbers: ER04-691-072; ER04-106-019; EL04-104-066.

Applicants: Midwest Independent Transmission System Operator, Inc.; Michigan Public Power Agency; Michigan South Central Power Agency.

Description: Midwest Independent Transmission Operator, Inc et al. submit a joint informational filing in compliance with the order of the Commission issued September 19, 2005.

Filed Date: May 17, 2006.

Accession Number: 20060519-0119.

Comment Date: 5 p.m. Eastern Time on Wednesday, June 7, 2006.

Docket Numbers: ER06-783-001.

Applicants: New York Independent System Operator, Inc.

Description: New York Independent System Operator, Inc submits its Substitute Sixth Revised Sheet 191 et al. to revise Section 7.5 of its Services Tariff filed March 24, 2006.

Filed Date: May 16, 2006.

Accession Number: 20060519-0116.

Comment Date: 5 p.m. Eastern Time on Tuesday, June 6, 2006.

Docket Numbers: ER06-809-001.

Applicants: Xcel Energy Services Inc.

Description: Xcel Energy Services Inc on behalf of Northern States Power Co submits an amendment to its March 30, 2006 filing, pursuant to the Commission's oral request.

Filed Date: May 12, 2006.

Accession Number: 20060519-0120.

Comment Date: 5 p.m. Eastern Time on Friday, June 2, 2006.

Docket Numbers: ER06-844-001.

Applicants: LSF Limited.

Description: LSF Limited submits two amended Petitions for acceptance of initial rate schedule, waivers and blanket authority on May 11, 2006 and May 12, 2006.

Filed Date: May 11, 2006 and May 12, 2006.

Accession Number: 20060522-0077 and 20060522-0076.

Comment Date: 5 p.m. Eastern Time on Tuesday, May 23, 2006.

Docket Numbers: ER06-1011-000.

Applicants: ISO New England Inc.; New England Power Pool Participants Committee.

Description: ISO New England, Inc and the New England Power Pool Participants submit corrected 2nd Revised Sheet 113 et al. to the ISO Financial Assurance Policy for Market Participants.

Filed Date: May 16, 2006.

Accession Number: 20060522-0013.

Comment Date: 5 p.m. Eastern Time on Tuesday, June 6, 2006.

Docket Numbers: ER06-1012-000.

Applicants: Deseret Generation & Transmission Co-operative, Inc.

Description: Deseret Generation & Transmission Co-operative, Inc submits an amendment to its Large Industrial Incentive Rate Agreement with Mt Wheeler Power, Inc.

Filed Date: May 18, 2006.

Accession Number: 20060522-0014.

Comment Date: 5 p.m. Eastern Time on Thursday, June 8, 2006.

Docket Numbers: ER06-1013-000.

Applicants: PJM Interconnection, L.L.C.

Description: PJM Interconnection, LLC submits an executed interconnection service agreement with Allegheny Energy Supply Company, LLC et al. and on May 17, 2006 submitted an Certificate of Service which was inadvertently omitted from this filing.

Filed Date: May 16, 2006.

Accession Number: 20060522-0015.

Comment Date: 5 p.m. Eastern Time on Tuesday, June 6, 2006.

Docket Numbers: ER06-1014-000.

Applicants: New York Independent System Operator, Inc.

Description: New York Independent System Operator, Inc submits revisions to its Market Administration and Control Area Services Tariff & Open Access Transmission Tariff.

Filed Date: May 16, 2006.

Accession Number: 20060522-0016.

Comment Date: 5 p.m. Eastern Time on Tuesday, June 6, 2006.

Docket Numbers: ER06-1015-000.

Applicants: Pacific Gas & Electric Company.

Description: Pacific Gas and Electric Co submits Revised Appendix B to the Generator Special Facilities Agreement and an unexecuted Generator Interconnection Agreement with Lompoc Wind Project, LLC.

Filed Date: May 18, 2006.

Accession Number: 20060522-0022.

Comment Date: 5 p.m. Eastern Time on Thursday, June 8, 2006.

Docket Numbers: ER06-1016-000.

Applicants: Entergy Services, Inc.

Description: Entergy Services, Inc on behalf of Entergy Arkansas, Inc submits the Thirty-Sixth Amendment to the Power Coordination, Interchange and Transmission Service Agreement with Arkansas Electric Coop Corp.

Filed Date: May 18, 2006.

Accession Number: 20060522-0017.

Comment Date: 5 p.m. Eastern Time on Thursday, June 8, 2006.

Docket Numbers: ER06-1017-000.

Applicants: Allegheny Power.

Description: Allegheny Power submits a notice of cancellation of the Power Supply Agreement with Atlantic City Electric Company.

Filed Date: May 18, 2006.

Accession Number: 20060522-0018.

Comment Date: 5 p.m. Eastern Time on Thursday, June 8, 2006.

Docket Numbers: ER06-1018-000.

Applicants: Power Hedging Dynamics, LLC.

Description: Power Hedging Dynamics, LLC submits a petition for acceptance of initial rate schedule FERC No. 1, waivers and blanket authority.

Filed Date: May 18, 2006.

Accession Number: 20060522-0030.

Comment Date: 5 p.m. Eastern Time on Thursday, June 8, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-8576 Filed 6-1-06; 8:45 am]

BILLING CODE 6717-01-P